DEPARTMENT OF LABOR

Employment and Training Administration

[TA-W-62,835; TA-W-62,835A]

Panasonic Shikoku Electronics Corporation of America (PSECA), Including On-Site Leased Workers of Express Personnel Services Corporation, Vancouver, WA; Panasonic Shikoku Electronics Sales of America, LLC, Portland, OR; Amended Certification Regarding Eligibility To Apply for Worker Adjustment Assistance and Alternative Trade Adjustment Assistance

In accordance with Section 223 of the Trade Act of 1974 (19 U.S.C. 2273) the Department of Labor issued a Certification of Eligibility To Apply for Worker Adjustment Assistance and Alternative Trade Adjustment Assistance on April 3, 2008, applicable to workers of Panasonic Sikoku Electronics Corporation of America (PSECA), including on-site leased workers of Express Personnel Services, Vancouver, Washington. The notice was published in the Federal Register on April 17, 2008 (73 FR 20954).

At the request of the State agency, the Department reviewed the certification for workers of the subject firm. The workers are engaged in the production of MMD/rear projection televisions.

New findings show that worker separations occurred at the Portland, Oregon facility of Panasonic Shikoku Electronics Sales of America, LLC. Workers at the Portland, Oregon facility provide purchasing and sales activities supporting the production of MMD/rear projection televisions that are produced at the Vancouver, Washington location of the subject firm.

Accordingly, the Department is amending the certification to cover workers at Panasonic Shikoku Electronics Sales of America, LLC, Portland, Oregon.

The intent of the Department's certification is to include all workers of Panasonic Shikoku Electronics Corporation of America (PSECA) who were adversely affected by increased imports.

The amended notice applicable to TA-W-62,835 is hereby issued as follows:

“All workers of Panasonic Shikoku Electronics Corporation of America (PSECA), including on-site leased workers of Express Personnel Services, Vancouver, Washington (TA-W-62,835), and Panasonic Shikoku Electronics Sales of America, LLC, Portland, Oregon (TA-W-62,835A), who became totally or partially separated from employment on or after March 22, 2008, through April 3, 2010, are eligible to apply for adjustment assistance under Section 223 of the Trade Act of 1974, and are also eligible to apply for alternative trade adjustment assistance under Section 246 of the Trade Act of 1974.”

Signed at Washington, DC this 22nd day of April 2008.
Elliott S. Kushner,
Certifying Officer, Division of Trade Adjustment Assistance.

[FR Doc. E8-9662 Filed 5-1-08; 8:45 am]

BILLING CODE 4510-FN-P